DEPARTMENT OF TRANSPORTATION

Federal Aviation Administration

14 CFR Part 71

[Docket No. FAA 2003-16214; Airspace Docket 02-ANM-11]

Revision of Class E Airspace; Kalispell, MT

AGENCY: Federal Aviation Administration (FAA), DOT.

ACTION: Final rule.

SUMMARY: This final rule will revise Class E airspace at Kalispell, MT. An increase in Area Navigation (RNAV) Global Position System (GPS) Standard Instrument Approach procedures (SIAP) operations at Glacier Park International Airport, Kalispell, MT, makes it necessary to increase the area controlled airspace. This additional controlled airspace extending upward from 1,200 feet above the surface of the earth is necessary for the containment and safety of Instrument Flight Rules (IFR) aircraft transitioning to/from the en route environment and executing these SIAP procedures.

EFFECTIVE DATE: 0901 UTC, August 5, 2004.

FOR FURTHER INFORMATION CONTACT: Ed Haeseker, Federal Aviation Administration, Air Traffic Division, 1601 Lind Avenue SW., Renton, WA 98055-4056; telephone (425) 227-2527.

SUPPLEMENTARY INFORMATION:

History

On October 21, 2003, the FAA proposed to amend Title 14 Code of Federal Regulations part 71 (CFR part 71) to modify Class E airspace at Kalispell, MT (68 FR 60049). An increase in RNAV GPS SIAP operations at Glacier Park International Airport, Kalispell, MT, makes it necessary to increase the area controlled airspace. This additional controlled airspace is necessary for the containment and safety of IFR aircraft transitioning to/from the en route environment and executing these SIAP procedures.

Interested parties were invited to participate in this rulemaking proceeding by submitting written comments on the proposal to the FAA. No comments were received. Class E airspace designations are published in paragraph 6005 of FAA Order 7400.9L dated September 02, 2003, and effective September 16, 2003, which is incorporated by reference in 14 CFR 71.1. The Class E airspace designations listed in this document will be published subsequently in that Order.

The Rule

This amendment to 14 CFR part 71 revises Class E airspace at Kalispell, MT. An increase in RNAV GPS SIAP operations at Glacier Park International Airport, Kalispell, MT, makes it necessary to increase the area controlled airspace. This additional controlled airspace extending upward from 1,200 feet above the surface of the earth is for the containment and safety of IFR aircraft transitioning to/from the en route environment and executing these SIAP procedures.

The FAA has determined that this reguation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR Part 71 as follows:

PART 71—DESIGNATION OF CLASS A, CLASS B, CLASS C, CLASS D, AND CLASS E AIRSPACE AREAS; ROUTES; AND REPORTING POINTS.

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR part 71.1 of the Federal Aviation Administration Order 7400.9L, Airspace Designations and Reporting Points, dated September 02, 2003, and effective September 16, 2003, is amended as follows:

Paragraph 6005 Class E Airspace area extending upward from 700 feet or more above the surface of the earth.

* * * * *

ANM MT E5 Kalispell, MT [Revised]

Kalispell/Glacier Park International Airport, MT

(Lat. 48°18′41″N., long. 114°15′18″W.);

Smith Lake Non Directional Beacon (NDB)

(Lat. 48°06′30″N., long. 114°27′40″W.)

That airspace extending upward from 700 feet above the surface of the earth within a 7 mile radius of Kalispell/Glacier Park International Airport, and within 4.8 miles each side of the 035° and 215° bearings from the Smith Lake NDB extending from the 7 mile radius to 10.5 miles southwest of the NDB; that airspace extending upward from 1,200 feet above the surface of the earth bounded by a line from lat. 47°30′00″N., long. 112°37′30″W.; to lat. 47°43′30″N., long. 112°37′30″W.; to lat. 48°07′30″N., long. 113°30′00″W., to lat 48°30′00″N., long. 113°30′00″W., to lat 48°30′00″N., long. 116°03′35″W.; to lat 47°30′00″N., long. 114°54′23″W.; thence to point of origin; excluding Kalispell/Glacier Park International Airport Class D airspace, Class E2 airspace, and that airspace within Federal Airways.

* * * * *

Issued in Seattle, Washington, on April 2, 2004.
Carla J. Mawhorter,
Acting Manager, Air Traffic Division, Northwest Mountain Region.

[FR Doc. 04-8361 Filed 4-12-04; 8:45 am]

BILLING CODE 4910-13-M